DEPARTMENT OF COMMERCE

International Trade Administration

[C-570-195]

Active Anode Material From the People's Republic of China: Final Affirmative Countervailing Duty Determination

AGENCY: Enforcement and Compliance, International Trade Administration, Department of Commerce.

SUMMARY: The U.S. Department of Commerce (Commerce) determines that countervailable subsidies are being provided to producers and exporters of active anode material from the People's Republic of China (China). The period of investigation (POI) is January 1, 2023, through December 31, 2023.

DATES: Applicable February 17, 2026.

FOR FURTHER INFORMATION CONTACT: Benjamin Nathan or Gorden Struck, AD/CVD Operations, Office II, Enforcement and Compliance, International Trade Administration, U.S. Department of Commerce, 1401 Constitution Avenue NW, Washington, DC 20230; telephone: (202) 482-3834 or (202) 482-8151, respectively.

SUPPLEMENTARY INFORMATION:

Background

On May 28, 2025, Commerce published the Preliminary Determination in the Federal Register.¹ In the Preliminary Determination, and in accordance with section 705(a)(1) of the Tariff Act of 1930, as amended (the Act), and 19 CFR 351.210(b)(4), Commerce aligned the final countervailing duty (CVD) determination with the final less-than-fair value (LTFV) determination.² Commerce invited parties to comment on the Preliminary Determination.³ On July 2, 2025, Commerce published an amended preliminary determination to correct ministerial errors in the Preliminary Determination with respect to the subsidy rates calculated for Panasonic Global Procurement (China) Co., Ltd., and Panasonic Corporation of China (collectively, Panasonic), and BTR New Material Group Co., Ltd.⁴

¹ See Certain Active Anode Material from the People's Republic of China: Preliminary Affirmative Countervailing Duty Determination and Alignment of Final Determination with Final Antidumping Duty Determination, 90 FR 22465 (May 28, 2025) (Preliminary Determination), and accompanying Preliminary Decision Memorandum (PDM).

² Id.

³ See Preliminary Determination, 90 FR at 22466.

⁴ See Active Anode Material from the People's Republic of China: Amended Preliminary Determination of Countervailing Duty Investigation, 90 FR 28994 (July 2, 2025) (Amended Preliminary Determination), and accompany Issues and Decision Memorandum.

Due to the lapse in appropriations and Federal Government shutdown, on November 14, 2025, Commerce tolled all deadlines in administrative proceedings by 47 days.⁵ Additionally, due to a backlog of documents that were electronically filled via Enforcement and Compliance's Antidumping and Countervailing Duty Centralized Electronic Service System (ACCESS) during the Federal Government shutdown, on November 24, 2025, Commerce tolled all deadlines in administrative proceedings by an additional 21 days.⁶ Accordingly, the deadline for this final determination is now February 10, 2026.

⁵ See Memorandum, “Deadlines Affected by the Shutdown of the Federal Government,” dated November 14, 2025.

⁶ See Memorandum, “Tolling of All Case Deadlines,” dated November 24, 2025.

For a complete description of the events that followed the Preliminary Determination, see the Issues and Decision Memorandum.⁷ The Issues and Decision Memorandum is a public document and is on file electronically via ACCESS. ACCESS is available to registered users at https://access.trade.gov. In addition, a complete version of the Issues and Decision Memorandum can be accessed directly at https://access.trade.gov/public/FRNoticesListLayout.aspx.

⁷ See Memorandum, “Issues and Decision Memorandum for the Final Affirmative Determination of the Countervailing Duty Investigation of Active Anode Material from the People's Republic of China,” dated concurrently with, and hereby adopted by, this notice (Issues and Decision Memorandum).

Scope of the Investigation

The product covered by this investigation is active anode material from China. For a complete description of the scope of the investigation, see Appendix I.

Scope Comments

In the Preliminary Scope Memorandum, we set aside a period of time for parties to raise issues regarding product coverage (i.e., scope) in scope-specific case briefs or other written comments.⁸ We received scope case and rebuttal briefs from multiple interested parties. For a summary of the product coverage comments and rebuttal responses submitted to the record for this final determination, and accompanying discussion and analysis of all comments timely received, see the Final Scope Memorandum.⁹ In the Final Scope Memorandum, Commerce determined that it is modifying the scope language as it appeared in the Initiation Notice.¹⁰ See Appendix I.

⁸ See Memorandum, “Less-Than-Fair Value and Countervailing Duty Investigations of Active Anode Material from the People's Republic of China: Preliminary Scope Determination,” dated July 16, 2025.

⁹ See Memorandum, “Less-Than-Fair Value and Countervailing Duty Investigations of Active Anode Material from the People's Republic of China: Final Scope Issues and Decision Memorandum,” dated concurrently with this notice.

¹⁰ See Active Anode Material from the People's Republic of China: Initiation of Countervailing Duty Investigation, 90 FR 3788 (January 25, 2025) (Initiation Notice).

Verification

As provided in section 782(i) of the Act, in December 2025, Commerce verified all information reported by BTR New Material Group Co., Ltd. and its cross-owned affiliates (collectively, BTR), the cooperating supplier to the mandatory respondent, Panasonic. We used standard verification procedures, including an examination of relevant account records and original source documents provided by the respondents.¹¹

¹¹ See Memorandum, “Verification of the Questionnaire Responses of BTR New Material Group Co., Ltd. and Affiliates,” dated January 6, 2026.

Analysis of Subsidy Programs and Comments Received

The subsidy programs under investigation, and the issues raised in the case and rebuttal briefs by parties in this investigation, are discussed in the Issues and Decision Memorandum. For a list of the issues raised by parties, and to which we responded in the Issues and Decision Memorandum, see Appendix II.

Methodology

Commerce conducted this investigation in accordance with section 701 of the Act. For each of the subsidy programs found to be countervailable, Commerce determines that there is a subsidy, i.e., a financial contribution by an “authority” that gives rise to a benefit to the recipient, and that the subsidy is specific.¹² For a full description of the methodology underlying our final determination, see the Issues and Decision Memorandum.

¹² See sections 771(5)(B) and (D) of the Act regarding financial contribution; section 771(5)(E) of the Act regarding benefit; and section 771(5A) of the Act regarding specificity.

Changes Since the Preliminary Determination

Based on our review and analysis of the information received during verification and comments received from parties, for this final determination, we made certain changes to the countervailable subsidy rate calculations for BTR and for all other producers/exporters. For a discussion of these changes, see the Issues and Decision Memorandum.

All-Others Rate

In accordance with section 705(c)(1)(B)(i) of the Act, we calculated an individual estimated countervailable subsidy rate for the mandatory respondent, Panasonic. Section 705(c)(5)(A)(i) of the Act states that, for companies not individually investigated, Commerce will determine an all-others rate equal to the weighted-average countervailable subsidy rates established for exporters and/or producers individually investigated, excluding any zero and de minimis countervailable subsidy rates, and any rates determined entirely under section 776 of the Act.

In this investigation, we continue to calculate individual total net countervailable subsidy rates based entirely on facts available with an adverse inference for Shanghai Shaosheng Knitted Sweat (Shaosheng).¹³ Therefore, the only rate that is not zero, de minimis, or based entirely on facts otherwise available is the rate calculated for Panasonic. Accordingly, we are assigning the rate calculated for Panasonic to all other producers and exporters, pursuant to section 705(c)(5)(A)(i) of the Act.

¹³ In the Preliminary Determination, we found that Shanghai Shaosheng Knitted Sweat (Shaosheng) did not respond to Commerce's countervailing duty questionnaire. We made no changes to this finding. Thus, Shaosheng continues to receive a rate based on adverse facts available for this final determination.

Final Determination

Commerce determines that the following estimated net countervailable subsidy rates exist for the period January 1, 2023, through December 31, 2023:

¹⁴ In the Preliminary Determination, we found that Huzhou Kaijin New Energy Technology Corp., Ltd. (Huzhou Kaijin) did not respond to Commerce's request for information. We made no changes to this finding. Thus, Huzhou Kaijin continues to receive a rate based on adverse facts available for this final determination.

Company | Subsidy rate (percent ad valorem)
Panasonic Global Procurement China Co., Ltd.; Panasonic Corporation of China | 66.86
BTR New Material Group Co., Ltd., BTR (Jiangsu) New Energy Material Co., Ltd., and BTR New Material Group Sales Co., Ltd | * 66.82
Shanghai Shaosheng Knitted Sweat | * 66.82
Huzhou Kaijin New Energy Technology Corp., Ltd.¹⁴ | * 66.82
All Others | 66.86
* Rate is based on facts available with adverse inferences.

Disclosure

Commerce intends to disclose its calculations performed to interested parties in this final determination within five days of its public announcement or, if there is no public announcement, within five days of the date of the publication of this notice in the Federal Register, in accordance with 19 CFR 351.224(b).

Continuation of Suspension of Liquidation

As a result of our Preliminary Determination, and pursuant to sections 703(d)(1)(B) and (d)(2) of the Act, Commerce instructed U.S. Customs and Border Protection (CBP) to collect cash deposits and suspend liquidation of entries of subject merchandise as described in the scope of the investigation section entered, or withdrawn from warehouse, for consumption on or after May 28, 2025, the date of publication of the Preliminary Determination in the Federal Register. In accordance with section 703(d) of the Act, we instructed CBP to discontinue the suspension of liquidation of all entries of subject merchandise entered or withdrawn from warehouse, on or after September 26, 2025, but to continue the suspension of liquidation of all entries of subject merchandise on or before September 25, 2026.

If the U.S. International Trade Commission (ITC) issues a final affirmative injury determination, we will issue a CVD order, reinstate the suspension of liquidation under section 706(a) of the Act, and require a cash deposit of estimated countervailing duties for such entries of subject merchandise in the amounts indicated above. Pursuant to section 705(c)(2) of the Act, if the ITC determines that material injury, or threat of material injury, does not exist, this proceeding will be terminated, and all estimated duties deposited or securities posted as a result of the suspension of liquidation will be refunded or cancelled.

ITC Notification

In accordance with section 705(d) of the Act, Commerce will notify the ITC of its final affirmative determination that countervailable subsidies are being provided to producers and exporters of active anode material from China. As Commerce's final determination is affirmative, in accordance with section 705(b) of the Act, the ITC will determine, within 45 days, whether the domestic industry in the United States is materially injured, or threated with material injury, by reason of imports of active anode material from China. In addition, we are making available to the ITC all non-privileged and non-proprietary information in our files, provided the ITC confirms that it will not disclose such information, either publicly or under administrative protective order (APO), without the written consent of the Assistant Secretary for Enforcement and Compliance.

If the ITC determines that material injury or threat of material injury does not exist, this proceeding will be terminated and all cash deposits will be refunded. If the ITC determines that such injury does exist, Commerce will issue a CVD order directing CBP to assess, upon further instruction by Commerce, countervailing duties on all imports of the subject merchandise that are entered, or withdrawn, for consumption on or after the effective date of the suspension of liquidation, as discussed above in the “Continuation of Suspension of Liquidation” section.

Administrative Protective Order

This notice will serve as the only reminder to parties subject to the APO of their responsibility concerning the destruction of proprietary information disclosed under APO, in accordance with 19 CFR 351.305(a)(3). Timely written notification of the return/destruction of APO materials or conversion to judicial protective order is hereby requested. Failure to comply with the regulations and terms of an APO is a violation which is subject to sanction.

Notification to Interested Parties

This determination is issued and published pursuant to sections 705(d) and 777(i) of the Act, and 19 CFR 351.210(c).

Dated: February 10, 2026.
Christopher Abbott,
Deputy Assistant Secretary for Policy and Negotiations, performing the non-exclusive functions and duties of the Assistant Secretary for Enforcement and Compliance.

Appendix I

Scope of the Investigation

The merchandise covered by this investigation is active anode material, which is an anode grade graphite material with a graphite minimum purity content of 90 percent carbon by weight, whether containing synthetic graphite, natural graphite, or a blend of synthetic and natural graphite; with or without coating. Subject merchandise may be in the form of powder, dry, liquid, or block form and is covered irrespective of the form in which it enters. Subject merchandise typically has a maximum size of 80 microns when in powder form. Subject merchandise has an energy density of 330 milliamp hours per gram or greater and a degree of graphitization of 80 percent or greater, where graphitization refers to the extent of the graphite crystal structure.

Subject merchandise is covered regardless of whether it is mixed with silicon based active materials, e.g., silicon-oxide (SiOx), silicon-carbon (SiC), or silicon, or additives such as carbon black or carbon nanotubes. Subject merchandise is covered regardless of the combination of compounds that comprise the graphite material. Subject merchandise is covered regardless of whether it is imported independently, as part of a compound, or as a component of an anode slurry, or in a subassembly of a battery such as an electrode. Only the anode grade graphite material is covered when entered as part of a mixture with silicon based active materials, as part of a compound, or as a component of an anode slurry, or in a subassembly of a battery such as an electrode.

Subject merchandise does not include active anode material incorporated into imports of lithium-ion battery products (such as cells, modules, and packs), electric vehicles, hybrid vehicles, cell phones or battery energy storage systems.

Active anode material subject to this investigation may be classified under the Harmonized Tariff Schedule of the United States (HTSUS) subheadings 2504.10.5000, 3801.10.5010, and 3801.10.5090. Subject merchandise may also enter under HTSUS subheadings 2504.10.1000 and 3801.90.00. The HTSUS subheadings are provided for convenience and customs purposes only. The written description of the scope of this investigation is dispositive.

Appendix II

List of Topics Discussed in the Issues and Decision Memorandum

I. Summary

II. Background

III. Use of Facts Otherwise Available and Adverse Inferences

IV. Subsidies Valuation

V. Analysis of Programs

VI. Discussion of the Issues

Comment 1: Whether to Continue to Apply Adverse Facts Available (AFA) Regarding Investigated Programs' Specificity and Financial Contributions

Comment 2: Whether to Continue to Rely on Total AFA for Shaosheng

Comment 3: Whether to Apply AFA to Panasonic

Comment 4: Whether Not Verifying Panasonic Precludes Commerce from Relying on Any Information Panasonic Reported

Comment 5: Whether to Apply Total AFA to BTR New Material Group Co., Ltd. and Its Affiliates (BTR)

Comment 6: Whether the Electricity for Less-Than-Adequate Remuneration (LTAR) Program is Countervailable

Comment 7: Whether to Countervail the Provision of Land Use for LTAR

Comment 8: Whether Commerce's Determinations of Other Subsidies Exceed the Lawful Scope of Inquiry

Comment 9: Whether to Apply AFA to Huzhou Kaijin

Comment 10: Whether Commerce Erred in Various Calculations for BTR and its Affiliates

VII. Recommendation

[FR Doc. 2026-02999 Filed 2-13-26; 8:45 am]

BILLING CODE 3510-DS-P